DEPARTMENT OF LABOR

Employment and Training Administration

[TA-W-54,708]

Novellus System, Inc., San Jose, CA; Notice of Affirmative Determination Regarding Application for Reconsideration

By letter of June 10, 2004, a petitioner requested administrative reconsideration of the Department of Labor's Notice of Negative Determination Regarding Eligibility to Apply for Worker Adjustment Assistance, applicable to workers of the subject firm. The Department's determination notice was signed on May 25, 2004. The Notice was published in the Federal Register on June 17, 2004 (69 FR 33941).

The Department reviewed the request for reconsideration and has determined that the original investigation requires further investigation. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 19th day of July, 2004.
Elliott S. Kushner,
Certifying Officer, Division of Trade Adjustment Assistance.

[FR Doc. 04-17721 Filed 8-3-04; 8:45 am]

BILLING CODE 4510-30-P